DEPARTMENT OF DEFENSE

Department of the Army

[Docket ID: USA-2023-HQ-0004]

Proposed Collection; Comment Request

AGENCY: Department of the Army, Department of Defense (DoD).

ACTION: 60-Day information collection notice.

SUMMARY: In compliance with the Paperwork Reduction Act of 1995, the Program Executive Officer, Enterprise Information Systems (PEO EIS) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 24, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Army Program Executive Office Enterprise Information Systems, 9350 Hall Road, Fort Belvoir, VA 22060, ATTN: Ms. Kathryn Mullan, or call 703-545-6678.

SUPPLEMENTARY INFORMATION: Title; Associated Form; and OMB Number: Program Executive Office Enterprise Information Systems Climate Survey; OMB Control Number 0702-0153.

Needs and Uses: The Program Executive Office Enterprise Information Systems Climate Survey (PEO EIS) Climate Survey is seeking feedback from its civilian, military, and contractor personnel to assess how they feel about the organization and their work environment. The responses will enable PEO EIS leadership to assess and determine where changes are required. PEO EIS will distribute this Climate Survey using the MilSuite survey feature, which enables PEO EIS to create a custom survey for distribution organization-wide with advanced survey statistics to capture, review, and share the responses. Respondents will access and provide their responses to the collection instrument online. They will receive a link via email that takes them directly to the PEO EIS Climate Survey in MilSuite. The PEO EIS Operations Team will review the survey responses and provide data and subsequent analysis to PEO EIS leadership. The results will enable leadership to communicate areas for improvement, actions they plan to take or have been taken, and if the changes address the area in need of improvement with its personnel. Additionally, since the survey is annual, PEO EIS will be able to review and analyze data year to year to identify trends. This climate survey was previously fielded to only one branch of PEO EIS, but will be expanded to include the entire organization.

Affected Public: Individuals or households.

Annual Burden Hours: 809.

Number of Respondents: 1,618.

Responses per Respondent: 1.

Annual Responses: 1,618.

Average Burden per Response: 30 minutes.

Frequency: Annually.

Dated: February 14, 2023.
Aaron T. Siegel,
Alternate OSD Federal Register Liaison Officer, Department of Defense.

[FR Doc. 2023-03496 Filed 2-17-23; 8:45 am]

BILLING CODE 5001-06-P